OFFICE OF PERSONNEL MANAGEMENT

5 CFR PART 630

RIN 3206-AL26

Emergency Leave Transfer Program

AGENCY: U.S. Office of Personnel Management.

ACTION: Correcting amendment.

SUMMARY: The U.S. Office of Personnel Management (OPM) issued final regulations on November 4, 2008 on the Emergency Leave Transfer Program (73 FR 65496). This notice corrects an omission in the final regulations that would permit an agency's leave bank to donate annual leave to an emergency leave transfer program administered by another agency during a Governmentwide transfer of emergency leave coordinated by OPM. This language was dropped inadvertently in the final rule when this section was rewritten slightly.

DATES: Effective March 10, 2009.

FOR FURTHER INFORMATION CONTACT: Doris Rippey by telephone at (202) 606-2858; by fax at (202) 606-0824; or by e-mail at pay-performance-policy@opm.gov.

SUPPLEMENTARY INFORMATION: On November 4, 2008, the U.S. Office of Personnel Management (OPM) issued final regulations on the Emergency Leave Transfer Program (73 FR 65496). In the final rule, we changed the language of § 630.1104 of title 5, Code of Federal Regulations, slightly from the language of that section in the proposed regulations. In doing so, we deleted inadvertently language that would allow an agency's leave bank to donate annual leave to an emergency leave transfer program administered by another agency during a Governmentwide transfer of emergency leave coordinated by OPM. Consequently, we are publishing this correction notice to reinsert this language.

List of Subjects in 5 CFR Part 630

Government employees.

Accordingly, 5 CFR part 630 is corrected by making the following correcting amendments:

PART 630—ABSENCE AND LEAVE

1. The authority citation for part 630 continues to read as follows:

Authority: 5 U.S.C. 6311; § 630.205 also issued under Public Law 108-411, 118 Stat. 2312; § 630.301 also issued under Public Law 103-356, 108 Stat. 3410 and Public Law 108-411, 118 Stat. 2312; § 630.303 also issued under 5 U.S.C. 6133(a); §§ 630.306 and 630.308 also issued under 5 U.S.C. 6304(d)(3), Public Law 102-484, 106 Stat. 2722, and Public Law 103-337, 108 Stat. 2663; subpart D also issued under Public Law 103-329, 108 Stat. 2423; § 630.501 and subpart F also issued under E.O. 11228, 30 FR 7739, 3 CFR, 1974 Comp., p. 163; subpart G also issued under 5 U.S.C. 6305; subpart H also issued under 5 U.S.C. 6326; subpart I also issued under 5 U.S.C. 6332, Public Law 100-566, 102 Stat. 2834, and Public Law 103-103, 107 Stat. 1022; subpart J also issued under 5 U.S.C. 6362, Public Law 100-566, and Public Law 103-103; subpart K also issued under Public Law 105-18, 111 Stat. 158; subpart L also issued under 5 U.S.C. 6387 and Public Law 103-3, 107 Stat. 23; and subpart M also issued under 5 U.S.C. 6391 and Public Law 102-25, 105 Stat. 92.

Subpart K—Emergency Leave Transfer Program

2. Section § 630.1104 is revised to read as follows:

§ 630.1104 Donations from a leave bank to an emergency leave transfer program.

A leave bank established under subchapter IV of chapter 63 of title 5, United States Code, and subpart J of part 630 may, with the concurrence of the leave bank board established under § 630.1003, donate annual leave to an emergency leave transfer program administered by its own agency, or, during a Governmentwide transfer of emergency leave coordinated by OPM, to an emergency leave transfer program administered by another agency. Donated annual leave not used by an emergency leave recipient must be returned to the leave bank as provided in § 630.1117.

U.S. Office of Personnel Management.
Jerome D. Mikowicz,
Deputy Associate Director, Center for Pay and Leave Administration.

[FR Doc. E9-5027 Filed 3-9-09; 8:45 am]

BILLING CODE 6325-39-P